DEPARTMENT OF COMMERCE

National Oceanic and Atmospheric Administration

[I.D. 112702A]

Marine Mammals; File No. 473-1433

AGENCY: National Marine Fisheries Service (NOAA Fisheries), National Oceanic and Atmospheric Administration (NOAA), Commerce.

ACTION: Issuance of permit amendment.

SUMMARY: Notice is hereby given that Janice Straley, Assistant Professor of Marine Biology, University of Southeast Alaska, 1332 Seward Avenue, Sitka, Alaska 99835-9498, has been issued an amendment to scientific research Permit No. 473-1433-02.

ADDRESSES: The amendment and related documents are available for review upon written request or by appointment in the following office(s):

Permits, Conservation and Education Division, Office of Protected Resources, NOAA Fisheries, 1315 East-West Highway, Room 13705, Silver Spring, MD 20910; phone (301)713-2289; fax (301)713-0376; and

Alaska Region, NOAA Fisheries, P.O. Box 21668, Juneau, AK 99802-1668; phone (907)586-7221; fax (907)586-7249.

FOR FURTHER INFORMATION CONTACT: Jill Lewandowski, Lynne Barre or Trevor Spradlin, (301)713-2289.

SUPPLEMENTARY INFORMATION: The subject amendment to Permit No. 473-1433-02, originally issued on February 23, 2001 (66 FR 11274), has been granted under the authority of the Marine Mammal Protection Act of 1972, as amended (16 U.S.C. 1361 et seq.), the Regulations Governing the Taking and Importing of Marine Mammals (50 CFR Part 216), the Endangered Species Act (ESA) of 1973, as amended (16 U.S.C. 1531 et seq.), and the Regulations Governing the Taking, Importing, and Exporting of Endangered Fish and Wildlife (50 CFR part 222).

The permit holder requested authorization to extend Permit No. 473-1433-02 for an additional 12 months. The new expiration date for the permit is November 30, 2003, and the permit number has been changed to No. 473-1433-03 to reflect that the permit has been amended.

Dated: November 29, 2002.
Eugene T. Nitta,
Acting Chief, Permits, Conservation and Education Division, Office of Protected Resources, National Marine Fisheries Service.

[FR Doc. 02-30755 Filed 12-3-02; 8:45 am]

BILLING CODE 3510-22-S